FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 010977-062.

Title: Hispaniola Discussion Agreement.

Parties: Crowley Liner Services, and Seaboard Marine Ltd.

Filing Party: Wayne R. Rohde, Esq.; Sher & Blackwell; 1850 M Street, NW.; Suite 900; Washington, DC 20036.

Synopsis: The amendment deletes Tropical Shipping and Construction Co., Ltd. as a party to the agreement.

Agreement No.: 011279-026.

Title: Latin America Agreement.

Parties: ABC Discussion Agreement; Caribbean Shipowners Association; Central America Discussion Agreement; Compania Libra de Navegacion Uruguay S.A..; Hispaniola Discussion Agreement; Inland Shipping Services Association; Venezuelan Discussion Agreement; West Coast of South America Discussion Agreement; and Zim Integrated Shipping Services, Ltd.

Filing Party: Wayne R. Rohde, Esq.; Sher & Blackwell LLP; 1850 M Street, NW.; Suite 900; Washington, DC 20036.

Synopsis: The amendment updates the membership of the various underlying parties.

Agreement No.: 012077.

Title: APL/Maersk Line Reciprocal Space Charter Agreement.

Parties: American President Lines, Ltd.; APL Co. Pte, Ltd.; and A.P. Moller Maersk A/S.

Filing Party: Eric. C. Jeffrey, Esq.; Counsel for APL; Goodwin Procter LLP; 901 New York Avenue, NW., Washington, DC 20001.

Synopsis: The agreement would authorize the parties to charter space to each other in the trade between the United States East Coast and Guatemala and Honduras.

By Order of the Federal Maritime Commission.
Dated: September 3, 2009.
Tanga S. FitzGibbon,
Assistant Secretary.

[FR Doc. E9-21681 Filed 9-8-09; 8:45 am]

BILLING CODE 6730-01-P